DEPARTMENT OF HOMELAND SECURITY

Coast Guard

[Docket No. USCG-2011-0508]

Certificate of Alternative Compliance for the Passenger Vessel CHICAGO'S LEADING LADY

AGENCY: Coast Guard, DHS.

ACTION: Notice.

SUMMARY: The Coast Guard announces that a Certificate of Alternative Compliance was issued for the passenger vessel CHICAGO'S LEADING LADY.

DATES: The Certificate of Alternative Compliance was issued on June 02, 2011.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2011-0508 in the “Keyword” box, and then clicking “Search.”

FOR FURTHER INFORMATION CONTACT: If you have questions on this notice, call LCDR Wm. Erik Pickering, District Nine, Prevention Branch, U.S. Coast Guard, telephone 216-902-6050. If you have questions on viewing or submitting material to the docket, call Renee V. Wright, Program Manager, Docket Operations, telephone 202-366-9826.

SUPPLEMENTARY INFORMATION:

Background and Purpose

A Certificate of Alternative Compliance, as allowed for under 33 U.S.C. 1605(c) and 33 CFR 81.18, has been issued for the passenger vessel CHICAGO'S LEADING LADY. The vessel's primary purpose is to give architectural tours on the Chicago River. This route requires passing beneath a number of low bridges, and the clearance does not allow the masthead light to be mounted as high as required for full compliance with Annex I of the Inland Rules Act.

The Commandant, U.S. Coast Guard, certifies that full compliance with the Inland Rules Act would interfere with the special functions/intent of the vessel and would not significantly enhance the safety of the vessel's operation. Placing the masthead light in the required position would interfere with the vessel's ability to navigate the Chicago River, which has several low bridges.

The Certificate of Alternative Compliance authorizes the CHICAGO'S LEADING LADY to deviate from the requirements set forth in Annex I of the Inland Rules Act, and place its masthead light on the pilothouse visor, at a height of 13′-7′ above the main deck.

This notice is issued under authority of 33 U.S.C. 1605(c), and 33 CFR 81.18.

Dated: June 2, 2011.
R.C. Helland,
Captain, U.S. Coast Guard, Chief, Prevention Division, By Direction of the Commander, Ninth Coast Guard District.

[FR Doc. 2011-15353 Filed 6-20-11; 8:45 am]

BILLING CODE 9110-04-P